DEPARTMENT OF COMMERCE

International Trade Administration

[A-570-956]

Seamless Carbon and Alloy Steel Standard, Line and Pressure Pipe From the People's Republic of China: Final Results of the Expedited Sunset Review of the Antidumping Duty Order

AGENCY: Enforcement and Compliance, International Trade Administration, Department of Commerce.

SUMMARY: As a result of this expedited sunset review, the Department of Commerce (Commerce) finds that revocation of the antidumping duty (AD) order on seamless carbon and alloy steel standard, line and pressure pipe (SSLP) from the People's Republic of China (China) would be likely to lead to continuation or recurrence of dumping at the levels indicated in the “Final Results of Review” section of this notice.

DATES: Applicable June 7, 2021.

FOR FURTHER INFORMATION CONTACT: Thomas Martin or Zachary Shaykin, AD/CVD Operations, Office IV, Enforcement and Compliance, International Trade Administration, U.S. Department of Commerce, 1401 Constitution Avenue NW, Washington, DC 20230; telephone: (202) 482-3936 or (202) 482-2638, respectively.

SUPPLEMENTARY INFORMATION:

Background

On November 10, 2010, the Department of Commerce (Commerce) published in the Federal Register a notice of the AD order on seamless carbon and alloy steel standard, line and pressure pipe from China.¹ On February 1, 2021, Commerce published its initiation of the second sunset review of the Order, pursuant to section 751(c) of the Tariff Act of 1930, as amended (the Act).² From February 5, through 16, 2021, Commerce received timely and complete notices of intent to participate in the sunset review in relation to the Order from domestic interested parties ³ within the deadline specified in 19 CFR 351.218(d)(1)(i).⁴ The domestic interested parties claimed interested party status pursuant to section 771(9)(C) of the Act as manufacturers in the United States of the domestic like product.⁵

¹ See Certain Seamless Carbon and Alloy Steel Standard, Line, and Pressure Pipe from the People's Republic of China: Amended Final Determination of Sales at Less Than Fair Value and Antidumping Duty Order, 75 FR 69052 (November 10, 2010) (Order).

² See Initiation of Five-Year (Sunset) Review, 86 FR 7709 (February 1, 2021).

³ The domestic interested parties are: Tenaris Bay City, Inc. and IPSCO Tubulars Inc. (collectively, Tenaris U.S.A.); United States Steel Corporation (U.S. Steel); Vallourec Star, LP (Vallourec); and BENTELER Steel/Tube Manufacturing Corp. (BENTELER) (collectively, domestic interested parties).

⁴ See Tenaris USA's Letter, “Notice of Intent to Participate in Second Sunset Reviews of the Antidumping and Countervailing Duty Orders on Seamless Carbon and Alloy Steel Standard, Line and Pressure Pipe from China,” dated February 5, 2021; U.S. Steel's Letter, “Five-Year (“Sunset”) Review of Antidumping and Countervailing Duty Orders on Seamless Carbon and Alloy Steel Standard, Line and Pressure Pipe from China: Notice of Intent to Participate,” dated February 16, 2021; Vallourec's Letter, “Seamless Carbon and Alloy Steel Standard, Line and Pressure Pipe from the People's Republic of China (Second Sunset Review): Notice of Intent to Participate,” dated February 16, 2021; and BENTELER's Letter, “Notice of Intent to Participate in Second Sunset Reviews of the Antidumping and Countervailing Duty Orders on Seamless Carbon and Alloy Steel Standard, Line and Pressure Pipe from China,” dated February 16, 2021.

⁵ Id.

On March 3, 2021, the domestic interested parties filed a timely and adequate substantive response within the deadline specified in 19 CFR 351.218(d)(3)(i).⁶ Commerce did not receive substantive responses from any respondent interested party with respect to the Order covered by this sunset review. As a result, pursuant to section 751(c)(3)(B) of the Act and 19 CFR 351.218(e)(1)(ii)(C)(2), Commerce conducted an expedited (120-day) sunset review of the Order.

⁶ See Domestic Interested Parties' Letter, “Seamless Carbon and Alloy Steel Standard, Line and Pressure Pipe from the People's Republic of China: Substantive Response of Domestic Producers to Commerce's Notice of Initiation of Five-Year (“Sunset”) Reviews,” dated March 3, 2021.

Scope of the Order

The merchandise covered by this order is certain seamless carbon and alloy steel (other than stainless steel) pipes and redraw hollows, less than or equal to 16 inches (406.4 mm) in outside diameter, regardless of wall-thickness, manufacturing process (e.g., hot-finished or cold-drawn), end finish (e.g., plain end, beveled end, upset end, threaded, or threaded and coupled), or surface finish (e.g., bare, lacquered or coated). Redraw hollows are any unfinished carbon or alloy steel (other than stainless steel) pipe or “hollow profiles” suitable for cold finishing operations, such as cold drawing, to meet the American Society for Testing and Materials (“ASTM”) or American Petroleum Institute (“API”) specifications referenced below, or comparable specifications. Specifically included within the scope are seamless carbon and alloy steel (other than stainless steel) standard, line, and pressure pipes produced to the ASTM A-53, ASTM A-106, ASTM A-333, ASTM A-334, ASTM A-589, ASTM A-795, ASTM A-1024, and the API 5L specifications, or comparable specifications, and meeting the physical parameters described above, regardless of application, with the exception of the exclusion discussed below.

Specifically excluded from the scope of the order are: (1) All pipes meeting aerospace, hydraulic, and bearing tubing specifications; (2) all pipes meeting the chemical requirements of ASTM A-335, whether finished or unfinished; and (3) unattached couplings. Also excluded from the scope of the order are all mechanical, boiler, condenser and heat exchange tubing, except when such products conform to the dimensional requirements, i.e., outside diameter and wall thickness of ASTM A-53, ASTM A-106 or API 5L specifications.

The merchandise covered by the order is currently classified in the Harmonized Tariff Schedule of the United States (HTSUS) under item numbers: 7304.19.1020, 7304.19.1030, 7304.19.1045, 7304.19.1060, 7304.19.5020, 7304.19.5050, 7304.31.6050, 7304.39.0016, 7304.39.0020, 7304.39.0024, 7304.39.0028, 7304.39.0032, 7304.39.0036, 7304.39.0040, 7304.39.0044, 7304.39.0048, 7304.39.0052, 7304.39.0056, 7304.39.0062, 7304.39.0068, 7304.39.0072, 7304.51.5005, 7304.51.5060, 7304.59.6000, 7304.59.8010, 7304.59.8015, 7304.59.8020, 7304.59.8025, 7304.59.8030, 7304.59.8035, 7304.59.8040, 7304.59.8045, 7304.59.8050, 7304.59.8055, 7304.59.8060, 7304.59.8065, and 7304.59.8070.

Although the HTSUS subheadings are provided for convenience and customs purposes, our written description of the merchandise subject to this scope is dispositive.⁷

⁷ See Order, 75 FR at 69052.

Analysis of Comments Received

A complete discussion of all issues raised in this sunset review, including the likelihood of continuation or recurrence of dumping in the event of revocation of the Order and the magnitude of the margins likely to prevail if the Order were to be revoked, is provided in the Issues and Decision Memorandum. A list of the topics discussed in the Issues and Decision Memorandum is attached as an appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://enforcement.trade.gov/frn/.

Final Results of Sunset Review

Pursuant to sections 751(c)(1) and 752(c)(1) and (3) of the Act, Commerce determines that revocation of the Order on SSLP from China would be likely to lead to a continuation or recurrence of dumping, and that the magnitude of the dumping margins likely to prevail is up to 98.74 percent.

Notification Regarding Administrative Protective Orders

This notice also serves as the only reminder to parties subject to administrative protective order (APO) of their responsibility concerning the return or destruction of proprietary information disclosed under an APO in accordance with 19 CFR 351.305. Timely notification of the return or destruction of APO materials, or conversion to judicial protective orders, is hereby requested. Failure to comply with the regulations and terms of an APO is a violation which is subject to sanction.

Notification to Interested Parties

These final results and notice are being issued and published in accordance with sections 751(c), 752(c), and 777(i)(1) of the Act, and 19 CFR 351.218(f)(3) and 351.221(c)(5).

Dated: June 1, 2021.
Christian Marsh,
Acting Assistant Secretary for Enforcement and Compliance.

Appendix—List of Topics Discussed in the Issues and Decision Memorandum

I. Summary

II. Background

III. Scope of the Order

IV. History of the Order

V. Legal Framework

VI. Discussion of the Issues

Comment 1: Likelihood of Continuation or Recurrence of Dumping

Comment 2: Magnitude of the Dumping Margins Likely to Prevail

VII. Final Results of Sunset Review

VIII. Recommendation

[FR Doc. 2021-11847 Filed 6-4-21; 8:45 am]

BILLING CODE 3510-DS-P